DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: National Survey of Children's Health.

OMB Control Number: 0607-XXXX.

Form Number(s):

English survey forms include:

NSCH-S1 (English Screener),

NSCH-T1 (English Topical for 0- to 5-year-old children),

NSCH-T2 (English Topical for 6- to 11-year-old children),

NSCH-T3 (English Topical for 12- to 17-year-old children).

Spanish survey forms include:

NSCH-S-S1 (Spanish Screener),

NSCH-S-T1 (Spanish Topical for 0- to 5-year-old children),

NSCH-S-T2 (Spanish Topical for 6- to 11-year-old children), and

NSCH-S-T3 (Spanish Topical for 12- to 17-year-old children).

Type of Request: Regular submission.

Number of Respondents: 190,406 for the Screener and 76,500 for the Topical.

Average Hours Per Response: 0.083 for the screener and 0.5 for the topical.

Burden Hours: 54,117.

Needs and Uses: The National Survey of Children's Health (NSCH) enables the Maternal and Child Health Bureau (MCHB) of the Health Resources and Services Administration (HRSA) of the U.S. Department of Health and Human Services (HHS) to produce national and state-based estimates on the health and well-being of children, their families, and their communities as well as estimates of the prevalence and impact of children with special health care needs.

Data will be collected using two modes. The first mode is an Internet survey that contains the screener and topical instruments. The Internet instrument first will take the respondent through the screener questions. If the household screens into the study, the respondent will be taken directly into one of the three age-based topical sets of questions. The second mode that is a mailout/mailback of a self-administered paper-and-pencil interviewing (PAPI) screener instrument followed by a separate mailout/mailback of a PAPI age-based topical instrument.

The National Survey of Children's Health (NSCH) is a large-scale (sample size is 364,153 addresses) national survey. The survey will consist of several experiments: (i) To assess amount of respondent cash incentives ($0, $2, or $5) needed to gain cooperation and participation in the survey, (ii) to test whether an alternative Maternal and Child Health Bureau branding improves response for the NSCH over the Census Bureau's standard branding and (iii) modification to data collection procedures based on the tract level internet response likelihood.

Affected Public: Parents, researchers, policymakers, and family advocates.

Frequency: This 2016 collection is the first administration of the new NSCH. There is a possibility that this will become an annual or biennial survey, with a new sample drawn for each administration.

Respondent's Obligation: Voluntary.

Legal Authority: Census Authority: 13 U.S.C. Section 8(b), HRSA MCHB Authority: 42 U.S.C., Section 701(a)(2).

Confidentiality: The data collected under this agreement are confidential under 13 U.S.C. Section 9. All access to Title 13 data from this survey is restricted to Census Bureau employees and those holding Census Bureau Special Sworn Status pursuant to 13 U.S.C. Section 23(c).

This information collection request may be viewed at www.reginfo.gov. Follow the instructions to view Department of Commerce collections currently under review by OMB.

Written comments and recommendations for the proposed information collection should be sent within 30 days of publication of this notice to OIRA_Submission@omb.eop.gov or fax to (202) 395-5806.

Dated: March 23, 2016.
Glenna Mickelson,
Management Analyst, Office of the Chief Information Officer.

[FR Doc. 2016-06903 Filed 3-25-16; 8:45 am]

BILLING CODE 3510-07-P